DEPARTMENT OF AGRICULTURE

Forest Service

Notice of New Recreation Fee Site, Federal Lands Recreation Enhancement Act, (Title VIII, Pub. L. 108-447)

AGENCY: Cherokee National Forest, USDA, Forest Service.

ACTION: Notice of new recreation fee site.

SUMMARY: Cherokee National Forest will begin charging a $15.00 fee per campsite for overnight use at Lost Corral Horse Camp, which is presently under construction. This new campground will facilitate equestrian use of Cherokee National Forest on the Ocoee/Hiwassee Ranger District. Fee revenue will support operations and maintenance of the campground and future site improvements.

DATES: Lost Corral Horse Camp is scheduled to open for public use in May 2006.

ADDRESSES: Forest Supervisor, Cherokee National Forest, 2800 Ocoee Street N, Cleveland, TN 37312.

FOR FURTHER INFORMATION CONTACT: Doug Byerly, Recreation Fee Coordinator, 423-476-9748.

SUPPLEMENTARY INFORMATION: The Federal Recreation Lands Enhancement Act (Title VII, P.L. 108-447) directed the Secretary of Agriculture to publish advance notice in the Federal Register whenever new recreation fee areas are established. Cherokee National Forest presently manages four overnight recreation fee sites on the Ocoee/Hiwassee Ranger District. Recreation fees for overnight use range from $12.00 to $20.00 per single campsite based on the level of development. Lost Corral Horse Camp will offer vault toilet facilities, municipal water, horse trail access, and developed campsite with a picnic table, fire ring, lantern post and horse hitching area. Campsites will be available on a first come, first served basis.

Dated: December 16, 2005.
Leslie M. Auriemmo,
Deputy Forest Supervisor.

[FR Doc. 06-31 Filed 1-3-06; 8:45 am]

BILLING CODE 3410-52-M